DEPARTMENT OF JUSTICE

Notice of Public Comment Period for Proposed First Amendment to Consent Decree Under the Clean Air Act

Under 28 CFR 50.7, notice is hereby given that, for a period of 30 days, the United States will receive public comments on a proposed First Amendment to Consent Decree in United States and the State of Minnesota v. Koch Petroleum Group, L.P. (Civil Action No. 00-CV-2756), which was lodged with the United States District Court for the District of Minnesota on June 23, 2006. Koch recently changed its corporate name and is now known as Flint Hills Resources, LP (“FHR”).

The parties are amending the April 25, 2001, Consent Decree in this national, multi-facility Clean Air Act (“Act”) enforcement action against FHR pursuant to Section 113(b) of the Clean Air Act (“CAA”), 42 U.S.C. 7413(b) (1983), amended by, 42 U.S.C. 7413(b) (Supp. 1991). The original settlement, covering three refineries, was entered by the Court on April 25, 2001, as part of EPA's Petroleum Refinery Initiative. The proposed Amendment allows FHR additional time to conduct studies of various nitrogen oxide (“NOX”) reducing catalysts and to decide on the final NOX control scheme for the fluidized catalytic cracking unit (“FCCU”) at the Pine Bend, Minnesota, facility. Second, the Amendment establishes a process to address any leaks of process fluids into the non-contract, recirculating cooling tower systems as required by the National Emission Standard for Benzene Waste Operations, 40 CFR part 61, subpart FF. Third, and finally, the Amendment exempts two heaters in the FHR system from the application of current or next generation ultra low-NOX burners, but requires FHR to install specific control technology and accept restrictive emission limits for these two heaters.

Comments should be addressed to the Assistant Attorney General, Environment and Natural Resources Division, P.O. Box 7611, U.S. Department of Justice, Washington, DC 20044-7611, and should refer to United States and the State of Minnesota v. Koch Petroleum Group, L.P., D.J. Ref 90-5-2-1-07110.

The First Amendment to Consent Decree may be examined at the Office of the United States Attorney, District of Minnesota, 600 U.S. Courthouse, 300 South Fourth Street, Minneapolis, MN 55415. During the public comment period the Amendment may also be examined on the following Department of Justice Web site, http://www.usdoj.gov/enrd/open.html. A copy of the Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

Robert Brook,
Assistant Chief, Environmental Enforcement Section, Environment and Natural Resources Division.

[FR Doc. 06-6026 Filed 7-5-06; 8:45 am]

BILLING CODE 4410-15-M